CHEMICAL SAFETY AND HAZARD INVESTIGATION BOARD

Sunshine Act Meeting

In connection with its investigation into the cause of an explosion and fire which occurred at BP's Texas City refinery on March 23, 2005, the United States Chemical Safety and Hazard Investigation Board (CSB) announces that it will convene a public meeting on March 20, 2007 starting at 6 p.m. at The Nessler Center, Wings of Heritage Room, 2010 5th Avenue North, Texas City, Texas 77590. At the meeting, CSB staff will present to the Board the results of their investigation into this incident. There will be a public comment period after the investigators' presentation.

At approximately 1:20 p.m. on Wednesday, March 23rd, a series of explosions occurred at the BP Texas City refinery during the restarting of an isomerization unit processing flammable hydrocarbons. Fifteen workers were killed and about 180 others were injured. Many of the victims were in or around work trailers located near a blowdown drum and stack that were open to the atmosphere. The explosions occurred when a distillation tower flooded with hydrocarbons and was over pressurized, resulting in a release of flammable hydrocarbons from the blowdown stack and a subsequent vapor cloud explosion. After the staff presentation, the Board will allow time for public comment. Following the conclusion of the public comment period, the Board will consider whether the preliminary facts presented necessitate any recommendations prior to the final completion of the Board's investigative report.

At the meeting, CSB staff will present the Board with the results of their investigation into this incident, including a discussion of key findings, root and contributing causes, and proposed recommendations. The CSB staff presentation will focus on four key safety issues: safety culture, regulatory oversight, process safety metrics, and human factors.

After the staff presentation, the Board will ask for public comments. Following the conclusion of the public comment period, the Board will consider whether to approve the final report and recommendations. All staff presentations are preliminary and are solely intended to allow the Board to consider in a public forum the issues and factors involved in this case. No factual analyses, conclusions or findings of the staff should be considered final. Only after the Board has considered the staff presentation and approved the staff report will there be an approved final record of this incident investigation.

The meeting will be open to the public, and there is no fee or pre-registration required. Please notify CSB if a translator or interpreter is needed, at least 5 business days prior to the public meeting. For more information, please contact the Chemical Safety and Hazard Investigation Board at (202) 261-7600, or visit our Web site at: http://www.csb.gov.

Christopher W. Warner,
General Counsel.

[FR Doc. 07-1010 Filed 3-1-07; 2:10 pm]

BILLING CODE 6350-01-P